FEDERAL HOUSING FINANCE BOARD

Sunshine Act Meeting Notice; Announcing an Open Meeting of the Board of Directors

Time and Date: The open meeting of the Board of Directors is scheduled to begin at 10 a.m. on Wednesday, November 8, 2006.

Place: Board Room, First Floor, Federal Housing Finance Board, 1625 Eye Street, NW., Washington, DC 20006.

Status: The meeting will be open to the public.

Matter to Be Considered at the Open Portion: Federal Home Loan Bank of Chicago Request to Redeem Excess Stock.

Contact Person for More Information: Shelia Willis, Paralegal Specialist, Office of General Counsel, at 202-408-2876 or williss@fhfb.gov.

Dated: November 8, 2006.
By the Federal Housing Finance Board.
John P. Kennedy,
General Counsel.

[FR Doc. 06-9098 Filed 11-2-06; 10:58 am]

BILLING CODE 6725-01-P